DEPARTMENT OF THE INTERIOR

National Park Service

Notice of Intent To Prepare a General Management Plan and Environmental Impact Statement

AGENCY: National Park Service, Interior.

SUMMARY: Pursuant to section 102 (2)(C) of the National Environmental Policy Act of 1969, the National Park Service announces their intent to prepare a General Management Plan and Environmental Impact Statement (GMP/EIS) for Governors Island National Monument, New York. The 21.69-acre Monument contains historic Fort Jay and Castle Williams and other properties located on 172-acre Governors Island, which lies about ½ mile south of Manhattan. The Monument's GMP/EIS will propose a long-term approach to managing the Governors Island National Monument, and will be prepared in cooperation with redevelopment plans being prepared by the Governors Island Preservation and Education Corporation. Consistent with the monument's mission, NPS policy, and other laws and regulations, alternatives will be developed to guide the management of the Monument over the next 15 to 20 years. The alternatives will incorporate various zoning and management prescriptions to ensure resource preservation and public enjoyment of the Monument. The environmental consequences that could result from implementing the various alternatives will be evaluated in the plan. Impact topics will include cultural and natural resources, visitor experience, park operations, the socioeconomic environment, impairment, and sustainability. The public will be invited to express concerns about the management of the Monument early in the process through public meetings and other media; and will have an opportunity to review and comment on a draft GMP/EIS. Following public review processes outlined under NEPA, the final plan will become official, authorizing implementation of a preferred alternative. The target date for the Record of Decision is February 7, 2006, 3 years from the date the Monument was established.

FOR FURTHER INFORMATION CONTACT: Superintendent, Governors Island National Monument, c/o 200 Chestnut Street, Philadelphia, PA 19106, (215) 597-1587.

Dated: April 1, 2003.
Linda Neal,
Superintendent, Governors Island National Monument.

[FR Doc. 03-10025 Filed 4-22-03; 8:45 am]

BILLING CODE 4310-70-P